DEPARTMENT OF HEALTH AND HUMAN SERVICES

Food and Drug Administration

[FDA 225-04-8000]

Memorandum of Understanding Between the Food and Drug Administration and the Administration on Aging

AGENCY: Food and Drug Administration, HHS.

ACTION: Notice.

SUMMARY: The Food and Drug Administration (FDA) is providing notice of a memorandum of understanding (MOU) between FDA and the Administration on Aging to support education and information initiatives for older Hispanic-Americans.

DATES: The agreement became effective October 17, 2003.

FOR FURTHER INFORMATION CONTACT: Mary C. Hitch, Office of External Relations (HF-40), Food and Drug Administration, 5600 Fishers Lane, Rockville, MD 20857, 301-827-4406.

SUPPLEMENTARY INFORMATION: In accordance with 21 CFR 20.108(c), which states that all written agreements and MOU's between FDA and others shall be published in the Federal Register, the agency is publishing notice of this MOU.

Dated: March 3, 2004.
Jeffrey Shuren,
Assistant Commissioner for Policy.

BILLING CODE 4160-01-S

[FR Doc. 04-5569 Filed 3-11-04; 8:45 am]

BILLING CODE 4160-01-C